DEPARTMENT OF ENERGY

Federal Energy Regulatory Commission

Combined Notice of Filings #1

Take notice that the Commission received the following electric corporate filings:

Docket Numbers: EC16-36-000.

Applicants: LWP Lessee, LLC.

Description: Clarification to November 19, 2015 Application for Authorization Under Section 203 of the FPA and Request for Shortened Comment Period of LWP Lessee, LLC.

Filed Date: 12/18/15.

Accession Number: 20151218-5271.

Comments Due: 5 p.m. ET 12/28/15.

Take notice that the Commission received the following electric rate filings:

Docket Numbers: ER10-1276-005; ER10-1353-006; ER10-1319-006; ER10-1303-004; ER10-1292-004; ER10-1287-004.

Applicants: Consumers Energy Company, CMS Energy Resource Management Company, Grayling Generation Station Limited Partnership, Genesee Power Station Limited Partnership, CMS Generation Michigan Power, LLC, Dearborn Industrial Generation, L.L.C.

Description: Notice of Non-Material Change in Status of Consumer Energy Company, et al.

Filed Date: 12/18/15.

Accession Number: 20151218-5286.

Comments Due: 5 p.m. ET 1/8/16.

Docket Numbers: ER10-1285-006.

Applicants: Craven County Wood Energy Limited Partnership.

Description: Notice of Non-Material Change in Status of Craven County Wood Energy Limited Partnership.

Filed Date: 12/18/15.

Accession Number: 20151218-5287.

Comments Due: 5 p.m. ET 1/8/16.

Docket Numbers: ER10-2417-002; ER13-122-002.

Applicants: ExxonMobil Baton Rouge Complex, ExxonMobil Beaumont Complex.

Description: Supplement to June 29, 2015 Triennial Market-Power Analysis for the Central Region of ExxonMobil Baton Rouge Complex, et al.

Filed Date: 12/18/15.

Accession Number: 20151218-5042.

Comments Due: 5 p.m. ET 1/8/16.

Docket Numbers: ER13-2409-006 ER15-2620-001; ER15-2615-001; ER14-2858-005; ER13-2409-006; ER12-979-010; ER12-2448-010 ER11-4501-011; ER11-4499-010; ER11-4498-010.

Applicants: Buffalo Dunes Wind Project, LLC, Caney River Wind Project, LLC, Chisholm View Wind Project, LLC, Goodwell Wind Project, LLC, Little Elk Wind Project, LLC, Origin Wind Energy, LLC, Rocky Ridge Wind Project, LLC, Smoky Hills Wind Farm, LLC, Smoky Hills Wind Project II, LLC.

Description: Updated Market Power Analysis and Order No. 697 Compliance Filing of Buffalo Dunes Wind Project, LLC, et al.

Filed Date: 12/18/15.

Accession Number: 20151218-5276.

Comments Due: 5 p.m. ET 2/16/16.

Docket Numbers: ER15-1332-002.

Applicants: Arbuckle Mountain Wind Farm LLC.

Description: Notice of Non-Material Change in Status of Arbuckle Mountain Wind Farm LLC.

Filed Date: 12/18/15.

Accession Number: 20151218-5288.

Comments Due: 5 p.m. ET 1/8/16.

Docket Numbers: ER15-2681-000.

Applicants: White Oak Energy LLC.

Description: Request for administrative cancellation of tariff ID 36, et. al. of White Oak Energy LLC.

Filed Date: 12/18/15.

Accession Number: 20151218-5296.

Comments Due: 5 p.m. ET 1/8/16.

Docket Numbers: ER16-91-001.

Applicants: Blythe Solar 110, LLC.

Description: Notification of Change in Status of Blythe Solar 110, LLC.

Filed Date: 12/18/15.

Accession Number: 20151218-5297.

Comments Due: 5 p.m. ET 1/8/16.

Docket Numbers: ER16-438-001; ER15-2211-006; ER13-1266-007.

Applicants: Marshall Wind Energy LLC, CalEnergy, LLC, MidAmerican Energy Services, LLC.

Description: Updated Market Power Analysis for Southwest Power Pool Region of Marshall Wind Energy LLC, et al.

Filed Date: 12/18/15.

Accession Number: 20151218-5290.

Comments Due: 5 p.m. ET 2/16/16.

Docket Numbers: ER16-553-001.

Applicants: San Diego Gas & Electric Company

Description: Tariff Amendment: SDGE Merchant OM Agreement-Baseline Filing to be effective 12/18/2015.

Filed Date: 12/18/15.

Accession Number: 20151218-5249.

Comments Due: 5 p.m. ET 1/8/16.

Docket Numbers: ER16-580-000.

Applicants: Nevada Power Company.

Description: § 205(d) Rate Filing: Rate Schedule 140 NPC RS 140 Concurrence with PacifiCorp RS 439 12.18.15 to be effective 1/1/2016.

Filed Date: 12/18/15.

Accession Number: 20151218-5241.

Comments Due: 5 p.m. ET 1/8/16.

Docket Numbers: ER16-581-000.

Applicants: ENGIE Portfolio Management, LLC

Description: Baseline eTariff Filing: Application for Market-Based Rate Authorization to be effective 2/17/2016.

Filed Date: 12/18/15.

Accession Number: 20151218-5246.

Comments Due: 5 p.m. ET 1/8/16.

Docket Numbers: ER16-582-000.

Applicants: ENGIE Retail, LLC.

Description: Baseline eTariff Filing: Application for Market-Based Rate Authorization to be effective 2/17/2016.

Filed Date: 12/18/15.

Accession Number: 20151218-5247.

Comments Due: 5 p.m. ET 1/8/16.

Docket Numbers: ER16-583-000.

Applicants: GDF SUEZ Energy Resources NA, Inc.

Description: Baseline eTariff Filing: Application for Market-Based Rate Authorization to be effective 2/17/2016.

Filed Date: 12/18/15.

Accession Number: 20151218-5248.

Comments Due: 5 p.m. ET 1/8/16.

Docket Numbers: ER16-584-000.

Applicants: Otter Tail Power Company.

Description: § 205(d) Rate Filing: Filings Related to 1986 Integrated Transmission Agreement Part I to be effective 7/30/2010.

Filed Date: 12/18/15.

Accession Number: 20151218-5250.

Comments Due: 5 p.m. ET 1/8/16.

Docket Numbers: ER16-584-001.

Applicants: Otter Tail Power Company.

Description: Tariff Amendment: Filings Related to 1986 Integrated Transmission Agreement Part II to be effective 7/30/2010.

Filed Date: 12/18/15.

Accession Number: 20151218-5251.

Comments Due: 5 p.m. ET 1/8/16.

Docket Numbers: ER16-585-000.

Applicants: Otter Tail Power Company.

Description: § 205(d) Rate Filing: Revisions to Service Agreement No. 3 Under the CASOT to be effective 1/1/2016.

Filed Date: 12/18/15.

Accession Number: 20151218-5253.

Comments Due: 5 p.m. ET 1/8/16.

Docket Numbers: ER16-586-000.

Applicants: Georgia Power Company.

Description: Georgia Power Company submits rate schedule update per 35.13(a)(2)(iii): reduction in transmission carrying charge to be effective 1/1/2015.

Filed Date: 12/18/15.

Accession Number: 20151218-5272.

Comments Due: 5 p.m. ET 1/8/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2015.
Nathaniel J. Davis, Sr.,
Deputy Secretary.

[FR Doc. 2015-32568 Filed 12-24-15; 8:45 am]

BILLING CODE 6717-01-P